DEPARTMENT OF ENERGY

Federal Energy Regulatory Commission

[Docket No. CP06-354-000]

Rockies Express Pipeline LLC; Notice of Application

June 12, 2006.

Take notice that on May 31, 2006, Rockies Express Pipeline LLC (Rockies Express), formerly Entrega Gas Pipeline LLC, 370 Van Gordon Street, Lakewood, Colorado 80228, filed an application in Docket No. CP06-354-000, pursuant to section 7(c) of the Natural Gas Act (NGA) and Part 157 of the Commission's regulations requesting a certificate of public convenience and necessity to construct certain pipeline facilities to provide up to 1,500,000 Dth per day of transportation capacity, referred to as the REX-West project, as well as authorization to lease capacity from Questar Overthrust Pipeline Company (Overthrust), all as more fully set forth in the application which is on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Specifically, Rockies Express requests authorization to construct: (1) 713 miles of 42-inch pipeline in Weld, Logan and Sedgwick Counties, Colorado, Laramie County, Wyoming, Kimball, Perkins, Lincoln, Dawson, Frontier, Gosper Phelps, Kearney, Franklin, Webster, Nuckolls, Thayer, Jefferson and Gage Counties, Nebraska, Marshall, Nemaha, Brown and Doniphan Counties, Kansas, and Buchannan, Clinton, Caldwell Carroll, Chariton, Randolph and Audrain Counties, Missouri; (2) a 5-mile, 24-inch gas supply lateral (Echo Springs Lateral) in Carbon and Sweetwater Counties, Wyoming; (3) five new compressor stations in Weld and Sedgwick Counties, Colorado, Gage County, Nebraska, Clinton County, Missouri, and Sweetwater County, Wyoming; and (4) additional compressor units at currently authorized compressor stations in Sweetwater County, Wyoming (Wamsmutter CS—one unit), and Rio Blanco County, Colorado (Meeker Hub—three units), and at the proposed new compressor station in Weld County, Colorado (Cheyenne CS Hub—one unit).

On November 18, 2005, the Commission staff granted Rockies Express' request to utilize the National Environmental Policy Act (NEPA) Pre-Filing Process and assigned Docket No. PF06-3-000 to staff activities involving the Rockies Express project. Now, as of the filing of Rockies Express' application on May 31, 2006, the NEPA Pre-Filing Process for this project has ended. From this time forward, Rockies Express' proceeding will be conducted in Docket No. CP06-354-000, as noted in the caption of this Notice.

Rockies Express also seeks authorization to lease capacity of 625,000 Dth per day on the facilities of Overthrust. In order to fulfill its lease commitment, Overthrust intends to construct 77 miles of 36-inch pipeline, for which Overthrust has commenced environmental consultation under the NEPA Pre-Filing Process in Docket No. PF06-19-000, and will add compression at two locations on the facilities for which it is currently seeking authority in Docket No. CP06-167-000. Additionally, Rockies Express states that TransColorado Gas Transmission Company (TransColorado) will seek authority to construct facilities, with a capacity of 250,000 Dth per day, from the Blanco Hub in New Mexico to the Meeker Hub in Colorado where TransColorado will interconnect with Rockies Express. TransColorado has commenced environmental consultation under the NEPA Pre-Filing Process in Docket No. PF06-20-000.

The estimated cost of the REX-West project is approximately $1.6 Billion. Rockies Express proposes two rate zones. Rockies Express proposes to charge its approved, existing recourse rates for Zone 1 (points west of and including the Cheyenne Hub), and proposes to establish new, initial recourse rates for Zone 2 (points east of the Cheyenne Hub to and including the proposed interconnect with Panhandle Eastern Pipe Line Company in Audrain County, Missouri). Rockies Express also proposes to charge incremental rates related to the costs of the proposed Overthrust lease, the Meeker Hub facilities, and the Cheyenne Hub facilities.

Any questions regarding this application should be directed to Bentley W. Breland, Vice President of Certificates and Rates, Rockies Express Pipeline LLC, P.O. Box 281304, Lakewood, Colorado 80228-8304, phone (303) 763-3581.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: July 5, 2006.

Magalie R. Salas,
Secretary.

[FR Doc. E6-9765 Filed 6-20-06; 8:45 am]

BILLING CODE 6717-01-P